DEPARTMENT OF HEALTH AND HUMAN SERVICES

National Institutes of Health

National Institute of Allergy and Infectious Diseases; Notice of Meeting

Pursuant to section 10(a) of the Federal Advisory Committee Act, as amended (5 U.S.C. App.), notice is hereby given of a meeting of the AIDS Research Advisory Committee, NIAID.

The meeting will be open to the public, with attendance limited to space available. Individuals who plan to attend and need special assistance, such as sign language interpretation or other reasonable accommodations, should notify the Contact Person listed below in advance of the meeting.

Name of Committee: AIDS Research Advisory Committee, NIAID, AIDS Vaccine Research Subcommittee.

Date: May 15-16, 2012.

Time: 8:30 a.m. to 5 p.m.

Agenda: To update the Subcommittee on the use of the nonhuman primate model for AIDS vaccine research and to summarize and discuss plans for the two recently awarded Consortia for AIDS Vaccine Research in Nonhuman Primates.

Place: National Institutes of Health, 5635 Fishers Lane, Conference Rooms 508-510, Bethesda, MD 20892.

Contact Person: James A. Bradac, Ph.D., Program Official, Preclinical Research and Development Branch, Division of AIDS, Room 5116, National Institutes of Health/NIAID, 6700B Rockledge Drive, Bethesda, MD 20892-7628, 301-435-3754, jbradac@mail.nih.gov.

(Catalogue of Federal Domestic Assistance Program Nos. 93.855, Allergy, Immunology, and Transplantation Research; 93.856, Microbiology and Infectious Diseases Research, National Institutes of Health, HHS)

Dated: March 26, 2012.
Jennifer S. Spaeth,
Director, Office of Federal Advisory Committee Policy.

[FR Doc. 2012-7828 Filed 3-30-12; 8:45 am]

BILLING CODE 4140-01-P